DEPARTMENT OF HEALTH AND HUMAN SERVICES

Agency for Toxic Substances and Disease Registry

[ATSDR-256]

Availability of Draft Toxicological Profiles

AGENCY: Agency for Toxic Substances and Disease Registry (ATSDR), Department of Health and Human Services (HHS).

ACTION: Notice of availability.

SUMMARY: The Comprehensive Environmental Response, Compensation, and Liability Act of 1980 (CERCLA), as amended by the Superfund Amendments and Reauthorization Act of 1986 (SARA), § 104(i)(3) [42 U.S.C. 9604(i)(3)], directs the ATSDR Administrator to prepare toxicological profiles of priority hazardous substances and, as necessary, to revise and publish each updated toxicological profile. This notice announces the availability of the 23rd set of toxicological profiles, which consists of three new and two updated drafts prepared by ATSDR for review and comment.

DATES: To be considered, comments on these draft toxicological profiles must be received on or before February 26, 2010. Comments received after the public comment period will be considered at the discretion of ATSDR, based on what it deems in the best interest of the general public.

ADDRESSES: Send requests for printed copies of the draft toxicological profiles to the attention of Ms. Olga Dawkins, ODawkins@cdc.gov, Division of Toxicology and Environmental Medicine, Agency for Toxic Substances and Disease Registry, Mailstop F-62, 1600 Clifton Road, NE., Atlanta, Georgia 30333. Electronic access to these documents is also available at the ATSDR Web site: http://www.atsdr.cdc.gov/toxpro2.html.

Requests for printed copies of the draft toxicological profiles must be in writing and must specifically identify the hazardous substance(s) profile(s) you wish to receive. ATSDR reserves the right to provide free of charge only one copy of each requested profile. Requestors will be notified in the event of extended distribution delays.

Written comments and other data submitted in response to this notice and in response to the draft toxicological profiles should bear the docket control number ATSDR-256. Send one copy of all comments and three copies of all supporting documents to the attention of Ms. Nickolette Roney, Division of Toxicology and Environmental Medicine, Agency for Toxic Substances and Disease Registry, Mailstop F-62, 1600 Clifton Road, NE., Atlanta, Georgia 30333, no later than the end of the comment period. Electronic comments may be sent via e-mail to TPPublicComments@cdc.gov and should contain the docket control number ATSDR-256 in the subject line.

Because all public comments regarding ATSDR toxicological profiles are available for public inspection, do not submit confidential information in response to this notice.

FOR FURTHER INFORMATION CONTACT: Ms. Olga Dawkins, Division of Toxicology and Environmental Medicine, Agency for Toxic Substances and Disease Registry, Mailstop F-62, 1600 Clifton Road, NE., Atlanta, Georgia 30333; telephone number (800) 232-4636 or (770) 488-3315.

SUPPLEMENTARY INFORMATION: The Superfund Amendments and Reauthorization Act (SARA) (Pub. L. 99-499) amends the Comprehensive Environmental Response, Compensation, and Liability Act (CERCLA or Superfund) (42 U.S.C. 9601 et seq.) by establishing certain responsibilities for ATSDR and the U.S. Environmental Protection Agency (U.S. EPA) with regard to hazardous substances most commonly found at facilities on the CERCLA National Priorities List (NPL). As part of these responsibilities, the ATSDR Administrator must prepare toxicological profiles for substances enumerated on the priority list of hazardous substances. This list identifies 275 hazardous substances which, according to ATSDR and U.S. EPA, pose the most significant potential threat to human health. The availability of the revised priority list of 275 hazardous substances was announced in the Federal Register on March 6, 2008 (73 FR 12178). In addition, ATSDR has the authority to prepare toxicological profiles for substances not found at sites on the National Priorities List, in an effort to “* * * establish and maintain inventory of literature, research, and studies on the health effects of toxic substances” under CERCLA Section 104(i)(1)(B), to respond to requests for consultation under section 104(i)(4), and as otherwise necessary to support the site-specific response actions conducted by ATSDR.

For previous versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744); November 17, 1997 (62 FR 61332); October 21, 1999 (64 FR 56792); October 25, 2001 (66 FR 54014); November 7, 2003 (68 FR 63098); and December 7, 2005 (70 FR 72840). [CERCLA also requires that ATSDR initiate a research program to fill data needs associated with the substances.] Section 104(i)(3) of CERCLA [42 U.S.C. 9604(i)(3)] outlines the content of these profiles. Each profile will include an examination, a summary, and an interpretation of available toxicological information and epidemiological evaluations. This information and these data identify the levels of significant human exposure for the substance and for the associated health effects. The profiles must also include a determination of whether adequate information on the health effects of each substance is available or is in the process of development. If adequate information is not available, ATSDR, in cooperation with the National Toxicology Program (NTP), is required to ensure the initiation of research to determine such health effects.

Although during the profile development process ATSDR considered key studies for each of the substances, this Federal Register notice solicits any relevant, additional studies, particularly unpublished data and ongoing studies. ATSDR will evaluate such data or studies for possible addition to the profiles, now or in the future.

The following draft toxicological profiles have been made available to the public:

Toxicological profile | CAS Number
1. Acrylamide | 79-06-1
2. Carbon Monoxide | 630-08-0
3. 1,3-Butadiene | 106-99-0
4. Phosphate Ester Flame Retardants | 78-51-3
| 126-73-8
| 126-71-6
| 115-86-6
| 13674-84-5
| 13674-87-8
| 115-96-8
5. Vanadium | 7440-62-2

All profiles issued as “Drafts for Public Comment” represent ATSDR's best efforts to provide important toxicological information on priority hazardous substances. We seek public comment and additional information that may supplement these profiles. ATSDR remains committed to providing a public comment period for these documents as the best means to serve public health and our clients.

Dated: December 4, 2009.
Ken Rose,
Director, Office of Policy, Planning and Evaluation, National Center for Environmental Health/Agency for Toxic Substances and Disease Registry.

[FR Doc. E9-29345 Filed 12-16-09; 8:45 am]

BILLING CODE 4163-70-P